FEDERAL RETIREMENT THRIFT INVESTMENT BOARD

Employee Thrift Advisory Council; Amended Meeting

FR.00-14739 appearing on page 36906 in the Federal Register of Monday, June 12, 2000, change the time of the meeting from 10 a.m. to 2 p.m. on Tuesday, June 27, 2000. Everything else remains the same.

Dated: June 20, 2000.
Elizabeth S. Woodruff,
General Counsel, Federal Retirement Thrift Investment Board.

[FR Doc. 00-15958 Filed 6-22-00; 8:45 am]

BILLING CODE 6760-01-M